DEPARTMENT OF COMMERCE

National Oceanic and Atmospheric Administration

Notice of Matching Fund Opportunity for Ocean and Coastal Mapping and Request for Partnership Proposals

AGENCY: National Ocean Service, National Oceanic and Atmospheric Administration (NOAA), Department of Commerce.

ACTION: Notice of matching fund opportunity; request for proposals.

SUMMARY: This notice invites non-Federal entities to partner with the ocean and coastal mapping programs of NOAA's National Ocean Service on jointly-funded projects of mutual interest, and establishes selection criteria and submission requirements for such projects under the NOAA Rear Admiral Richard T. Brennan Ocean Mapping Fund program. With this funding opportunity, NOAA will match selected non-Federal partners at a 70:30 NOAA: partner ratio for projects totaling up to $1,000,000, and proposing to contract for ocean, coastal and/or Great Lakes mapping data. Selected non-Federal partners further benefit from this opportunity by leveraging NOAA's contracting (NOAA has a pool of pre-qualified technical experts in surveying and mapping) and data management expertise. This ocean and coastal mapping funding opportunity is subject to the availability of funds.

DATES: Project proposals, including any optional GIS files of the proposed project areas, must be received via email at the email address listed in the ADDRESSES section below by 5 p.m. Eastern Time (ET) on October 10, 2023. If an entity is unable to apply for this particular opportunity, but is interested in participating in similar, future opportunities, NOAA requests a one-page statement of interest, also by October 10, 2023. Please include all required components of the proposal in one email. Incomplete and late submissions will not be considered.

After reviewing the project proposals, NOAA will issue its decision on the proposals, which are subject to the availability of funding, on November 15, 2023. Between December 2023 and January 2024, NOAA will work with the project partners it selects to develop agreements to facilitate the transfer of funds for the projects. By March 2024, these agreements will be finalized. Between June and September 2024, non-Federal partners will transfer their matching funds to NOAA. Between January and September of 2025, NOAA will issue task orders to its survey contractors for the partner projects.

NOAA will host an informational webinar and office hours to provide more information about the matching fund opportunity and answer any questions:

• August 10, 2023: Informational Webinar at 1 p.m. ET. To participate, please register at https://attendee.gotowebinar.com/register/1673584672481823584.

• September 14, 2023: Virtual office hours between 8:00 a.m. and 5:00 p.m. ET. These office hours will present an opportunity for interested entities to validate their proposals with experts before submitting a project proposal. In advance of September 14, 2023, register for a 30-minute time slot by emailing iwgocm.staff@noaa.gov.

ADDRESSES: Project proposals must be submitted via email to iwgocm.staff@noaa.gov.

The following is a list of documents that applicants may find useful and the websites where they may be found:

• the National Ocean Mapping, Exploration and Characterization Strategy (NOMEC), the Alaska Coastal Mapping Strategy (ACMS), and the Coast Survey Ocean Mapping Plan: https://iocm.noaa.gov/about/strategic-plans.html;

• the Ocean Climate Action Plan (OCAP): https://www.noaa.gov/sites/default/files/2023-03/Ocean-Climate-Action-Plan_Final.pdf;

• the U.S. Bathymetry Gap Analysis: https://iocm.noaa.gov/seabed-2030-bathymetry.html;

• the U.S. Interagency Elevation Inventory: https://catalog.data.gov/dataset/united-states-interagency-elevation-inventory-usiei;

• the U.S. Mapping Coordination site: fedmap.seasketch.org;

• NOAA's Hydrographic Surveys Specifications and Deliverables publication: https://nauticalcharts.noaa.gov/publications/docs/standards-and-requirements/specs/HSSD_2022.pdf;

• NOAA Shoreline Mapping Specifications and Deliverables: https://geodesy.noaa.gov/ContractingOpportunities/cmp-sow-v15.pdf; and

• the International Hydrographic Organization's Standards for Hydrographic Surveys, Special Publication 44: https://iho.int/uploads/user/pubs/standards/s-44/S-44_Edition_6.1.0.pdf.

More information on NOAA's surveying and mapping contracting vehicles is available at https://iocm.noaa.gov/planning/contracts-grants-agreements.html, along with background information, questions and answers, and slides on this funding opportunity.

FOR FURTHER INFORMATION CONTACT: Requests for additional information or to register for the September 14, 2023, office hours, contact Ashley Chappell, NOAA Integrated Ocean and Coastal Mapping, at iwgocm.staff@noaa.gov, or (240) 429-0293.

SUPPLEMENTARY INFORMATION:

I. Background

NOAA's Office of Coast Survey (OCS) and National Geodetic Survey (NGS) are responsible for conducting hydrographic surveys and coastal mapping for safe navigation, the conservation and management of coastal and ocean resources, and emergency response. NOAA has considerable hydrographic and shoreline mapping contracting expertise, including a cutting-edge understanding of the science and related acoustic systems as well as data standards to ensure broad usability of that data.

NOAA is committed to meeting its mapping missions as collaboratively as possible, adhering to the Integrated Ocean and Coastal Mapping (IOCM) principle of “Map Once, Use Many Times.” However, the resources needed to fully achieve the goal of comprehensively mapping U.S. named oceans and coasts currently exceed NOAA's capacity. Mapping the full extent of waters subject to U.S. jurisdiction means relying on partners to contribute to the effort.

The establishment of the Rear Admiral Richard T. Brennan Ocean Mapping Fund program is one way that NOAA seeks to expand partnerships and acquisition of U.S. ocean, coastal, and Great Lakes mapping data. NOAA Rear Admiral Richard T. Brennan, one of IOCM's strongest advocates, developed the Ocean Mapping Plan for OCS in August 2020 in which IOCM plays a large role. The Ocean Mapping Plan responds to a number of national drivers to map the full extent of U.S. waters subject to U.S. jurisdiction to modern standards, including the June 2020 publications of the National Strategy for Mapping, Exploring, and Characterizing the U.S. Exclusive Economic Zone (NOMEC), the Alaska Coastal Mapping Strategy (ACMS), and the 2023 Ocean Climate Action Plan (OCAP). The Ocean Mapping Plan also describes a number of reasons NOAA is committed to surveying and mapping waters subject to U.S. jurisdiction, including, but not limited to:

• Safe marine transportation;

• Coastal community resilience;

• A need to better understand the influence of the ocean's composition on related physical and ecosystem processes that affect climate, weather, and coastal and marine resources and infrastructure;

• Interest in capitalizing on the Blue Economy in growth areas like seafood production, tourism and recreation, marine transportation, and ocean exploration;

• The national prerogative to exercise U.S. sovereign rights to explore, manage, and conserve natural resources in waters subject to U.S. jurisdiction; and

• International interest in mapping the ocean by 2030.

Sadly, Rear Admiral Richard T. Brennan passed away in May 2021. Nevertheless, IOCM continues to implement Rear Admiral Richard T. Brennan's vision and passion for collaborative ocean mapping through this matching fund opportunity named in his honor.

II. Description

This notice invites non-Federal entities to partner with the ocean and coastal mapping programs of NOAA's National Ocean Service on jointly-funded projects of mutual interest that address the drivers noted in Section I above. These projects will establish ocean, coastal, and Great Lakes survey and mapping partnerships using NOAA's geospatial contracting vehicles. NOAA will use the selection criteria and submission requirements described in Sections V and VI, respectively, to review project proposals.

The goal of the Rear Admiral Richard T. Brennan Ocean Mapping Fund program is to leverage NOAA and non-Federal partner funds to acquire more ocean and coastal mapping data from qualified contract surveyors during Fiscal Year (FY) 2025. Subject to the availability of appropriations, NOAA will provide up to 70 percent of the total project cost, with the selected entity providing at least 30 percent of the total project cost. For example, for a $1 million project, the partner must provide at least $300,000, and NOAA would provide up to $700,000.

NOAA anticipates funding between two and five projects, with a total cost of up to $1 million per project. NOAA may consider providing additional funding for a project, thereby exceeding $1 million, subject to the availability of funds and NOAA's discretion. All projects are expected to have a FY 2025 project start date, and NOAA must receive all non-Federal partner matching funds before October 2024. NOAA reserves the right to increase or decrease its funding match based on the quality and feasibility of proposals received.

After NOAA selects a non-Federal entity as a partner, NOAA will enter into an agreement with the partner pursuant to the Coast and Geodetic Survey Act of 1947 (33 U.S.C. 883e), which enables NOAA to receive funds for the mapping project.

In addition to providing matching funds, NOAA brings its expertise to manage survey planning, quality-assure all data and products, provide the data and products to the partners within an agreed-upon timeframe, and handle data submission to the National Centers for Environmental Information for archiving and public accessibility. All ocean and coastal data and related products from the Rear Admiral Richard T. Brennan Ocean Mapping Fund program will be available to the public to the greatest extent allowed by applicable laws.

The specific value-added services NOAA will provide include:

• Assurance that the data are collected by qualified survey contractors to ensure broadest use and accessibility of the data;

• Project management and GIS-based task order planning, negotiation, and award of necessary procurement contracts that are tailored to meet the interests of matching fund partners and managed on aerial, shipboard, and uncrewed vehicles;

• Managing survey compliance with applicable laws, such as the National Environmental Policy Act and National Historic Preservation Act;

• Data processing, quality assessment, and review of all acquired hydrographic data; and

• Data management and stewardship through data archive at the National Centers for Environmental Information.

Data acquisition collection methods include, but are not limited to multibeam echosounder, side scan sonar, lidar (topographic, bathymetric, mobile), subsurface and airborne feature investigations, and sediment sampling. Products acquired may include, but are not limited to:

• Bathymetric data (multibeam, single beam, lidar),

• Backscatter,

• Water column (depth dependent),

• Side scan sonar imagery,

• Feature detection reports,

• Sensor/data corrections and calibrations (e.g., conductivity, temperature and depth casts, horizontal/vertical position uncertainty),

• Survey and control services, including the installation, operation, and removal of water level and Global Positioning System stations,

• High-resolution topographic/bathymetric product generation, and

• A final project report.

More information on NOAA's surveying and mapping processes and products can be found in the OCS Hydrographic Surveys Specifications and Deliverables and the NGS Shoreline Mapping Specifications and Deliverables publications.

III. Strategic Areas of Focus

For this opportunity, proposals will be considered that align with national priorities for climate and infrastructure and the goals of the NOMEC, ACMS, the OCS Ocean Mapping Plan, and OCAP. Those goals include:

1. Map U.S. Waters: Mapping U.S. deep waters (>40m) by 2030 and shallower waters by 2040 would give the United States unprecedented and detailed information about the depth, shape, and composition of its seafloor and Great Lakes (NOMEC Goal 2). Based on the January 2023 analysis of data holdings at NOAA's National Centers for Environmental Information, 50 percent of waters subject to U.S. jurisdiction are unmapped (https://iocm.noaa.gov/seabed-2030-status.html). Acquiring the best available data in poorly surveyed and gap areas means working with partners to contribute to the effort. By sharing its mapping expertise with others, NOAA can build depth in the ocean and coastal mapping community to increase the quantity and quality of seafloor data acquired overall (Ocean Mapping Plan Goal 2).

2. Expand Alaska Coastal Data Collection to Deliver the Priority Geospatial Products Stakeholders Require: Mapping the Alaska coast is challenging. However, using targeted and coordinated data collections will potentially reduce overall costs and improve the cost-to-benefit ratio of expanded mapping activities (ACMS Goal 2).

3. Expand Coastal Mapping to Inform Science-based Decision-making Capabilities: This priority stems from a broader OCAP action for coastal climate resilience to “expand coastal mapping, monitoring, observational systems, research, and modeling to inform science-based decision-making capabilities and advance use of nature-based solutions.” Climate change is greatly influencing the need to map all of our named oceans and coasts in detail. The data is integral to decision-making on coastal resilience efforts to save lives, implement proper infrastructure planning, and protect sensitive coastal ecosystems in light of ocean-born natural disasters.

IV. Proposal Eligibility

This matching fund opportunity is available to non-Federal entities. Examples of non-Federal entities include state and local governments, tribal entities, universities, researchers and academia, the private sector, non-governmental organizations (NGOs), and philanthropic partners. Qualifying proposals must demonstrate the ability to provide at least 30 percent of the funds needed for the proposed project. A coalition of non-Federal entities may assemble funds for the match and submit a proposal jointly. Use of other Federal agency funds as part of the non-Federal entities' match funds will be considered on a case-by-case basis and only as authorized by applicable laws. In-kind contributions are welcome to strengthen the project proposal but do not count toward the match and are not required.

V. Selection Criteria

Proposals will be evaluated by the Rear Admiral Richard T. Brennan Ocean Mapping Fund Program Management Team. Submissions will be ranked based on the following selection criteria:

1. Project justification (30 points)—This criterion ascertains whether there is intrinsic IOCM value in the proposed work and/or relevance to NOAA's missions and priorities (several noted in Section III), including downstream partner proposals and uses. Use of, and reference to, national priorities on coastal climate resilience and infrastructure, NOMEC, ACMS, the Coast Survey Ocean Mapping Plan, and OCAP; gap assessment tools such as the U.S. Bathymetry Gap Analysis; and the U.S. Interagency Elevation Inventory, among others, are recommended. The U.S. Mapping Coordination site shows current NOAA mapping plans as well as the latest in Federal mapping priorities and select regional mapping priorities.

2. Statement of need (10 points)—This criterion assesses clarity of project need, partner project funding alternatives if not selected, anticipated outcomes, and public benefit.

3. Specified partner match (20 points)—The proposal identifies a point of contact for the entity submitting the proposal, as well as any partnering entities, a clear statement on partner matching funds provenance (e.g., state appropriations, NGO funds, or other sources) and timing of funds availability. In-kind contributions are welcome to strengthen the proposal but do not count toward the funding match and are not required.

4. Project costs (15 points)—This criterion evaluates whether the proposed budget is realistic and commensurate with the proposed project needs and timeframe.

5. Project feasibility and flexibility (25 points)—This criterion assesses the likelihood that the proposal would succeed, using evaluations of survey conditions, project size, location, weather, NOAA analysis of environmental compliance implications, project flexibility and adaptability to existing NOAA plans and schedules, and other factors.

During the proposal review period, the Rear Admiral Richard T. Brennan Ocean Mapping Fund Program Management Team reserves the right to engage with proposal points of contact to ask questions and provide feedback on project costs and feasibility.

VI. Submission Requirements

Project Proposal—To qualify, a proposal shall not exceed six (6) total pages and must include the following three components:

1. A project title; executive summary (3-5 sentences); and the names, affiliations, and roles of the project partners and any co-investigators, as well as the project lead that will serve as primary contact (1 page maximum).

2. A justification and statement of need; description and graphics of the proposed survey area, including relevance to the strategic areas of focus noted in Section III and degree of flexibility on timing of survey effort (4 pages maximum).

3. A project budget that lists the source(s) and amount(s) of funding that the partner would provide as its match to NOAA. Budget must confirm that partner funds can be transferred to NOAA before October 2024 (1 page maximum).

Proposals must be sent in a PDF format, and use 12-point, Times New Roman font, single spacing, and 1-inch margins. Failure to adhere to these submission requirements will result in the proposal being returned without review and eliminated from further consideration.

To facilitate review, NOAA welcomes the submission of GIS files of project areas. These ancillary GIS files must be in SHP format.

VII. Management and Oversight

Once the Rear Admiral Richard T. Brennan Ocean Mapping Fund Program Management Team selects project proposals, NOAA will coordinate the development of agreements, funding transfers, project planning, environmental compliance, acquisition awards, and quality assurance process with the project partners. NOAA may bring in additional partners and/or funding (Federal and/or non-Federal) to expand a project further, if feasible. Projects will be reviewed by NOAA annually to ensure they are responsive to partner interests and NOAA mission requirements, and to identify opportunities for outreach and education on the societal benefits of the work.

Authority: 33 U.S.C. 883e.

RDML Benjamin K. Evans,
Director, Office of Coast Survey, National Ocean Service, National Oceanic and Atmospheric Administration.

[FR Doc. 2023-15419 Filed 7-19-23; 8:45 am]

BILLING CODE 3510-JE-P